DEPARTMENT OF HOMELAND SECURITY

Coast Guard

33 CFR Part 165

[Docket No. USCG-2019-0562]

Regulated Navigation Area; Straits of Mackinac, Mackinaw City, MI

AGENCY: Coast Guard, DHS.

ACTION: Notice of enforcement of regulation.

SUMMARY: The Coast Guard will enforce a temporary traffic rule prohibiting the transit of certain vessels under the Mackinac Bridge in the Straits of Mackinac on August 11, 2019, to provide for safety of life on navigable waterways during a swim event. Our regulation identifies the vessels that must comply with this temporary traffic rule. During the enforcement periods, the operator of any vessel in the regulated navigation area must comply with directions from the Patrol Commander or a Designated Representative of the Captain of the Port.

DATES: This temporary traffic rule permitted in 33 CFR 165.944 will be enforced from 7:30 a.m. through 10:30 a.m. on August 11, 2019.

FOR FURTHER INFORMATION CONTACT: If you have questions about this notice of enforcement, call or email LT Sean Murphy, Waterways Management, U.S. Coast Guard; telephone 906-635-3223, email Sean.V.Murphy@uscg.mil.

SUPPLEMENTARY INFORMATION: The Coast Guard will enforce a temporary traffic rule, that the Captain of the Port Sault Sainte Marie is establishing under 33 CFR 165.944(c)(7), to provide for safety of life on navigable waterways during a swim event near the Mackinac Bridge in the Straits of Mackinac. The temporary traffic rule will be enforced from 7:30 a.m. through 10:30 a.m. on August 11, 2019. During this period of enforcement, certain vessels, listed in 33 CFR 165.944(b), are prohibited from crossing underneath the Mackinac Bridge in the Straits of Mackinac, Michigan. If you are the operator of a vessel in the regulated navigation area you must comply with directions from the Patrol Commander or Designated Representative of the Captain of the Port.

In addition to this notice of enforcement in the Federal Register, the Coast Guard plans to provide notification of this enforcement period via the Local Notice to Mariners, and marine information broadcasts.

Dated: July 3, 2019.
Patrick S. Nelson,
Captain, U.S. Coast Guard, Captain of the Port Sault Sainte Marie.

[FR Doc. 2019-14820 Filed 7-11-19; 8:45 am]

BILLING CODE 9110-04-P